Proclamation 8666 of April 29, 2011

Loyalty Day, 2011

By the President of the United States of America

A Proclamation

When our Nation’s Founders adopted the Declaration of Independence, they pledged to build a government that represented America’s highest ideals, a Union that secured its people’s sacred rights by “deriving [its] just powers from the consent of the governed.” From the Revolutionary War to the formation of our young country, our Founders’ commitment to this principle never wavered. In the fall of 1787, America launched its improbable experiment in democracy, embedding in our Constitution the core values of liberty, equality, and justice for all.

Throughout our proud history, Americans motivated by loyalty and fidelity to these principles have worked to perfect our Union. Our Constitution grants Americans unprecedented freedoms and opportunities. We are free to speak our minds, worship as we please, choose our leaders, and criticize them when we disagree. The liberties enshrined in our founding documents define us as a people and a Nation, ensuring that every American with the drive to work hard and play by the rules has the chance to build a better life for their children and grandchildren.

For over two centuries, Americans have looked with pride and devotion on a Nation that reflects its people’s highest moral aspirations. On this day, we celebrate our brave men and women in uniform and honor those who gave their lives to keep our country safe and free. We also reflect on the contributions of patriotic civilians united by an understanding that citizenship is not just a collection of rights, but also a set of responsibilities.

The ideals upheld by our forebears have stirred the resolute devotion of the American people and inspired hope in the hearts of people from across the globe. With trust in a future that keeps faith with our history, we remain true to the promise of America and the spirit that unites us all.

In order to recognize the American spirit of loyalty and the sacrifices that so many have made for our Nation, the Congress, by Public Law 85-529 as amended, has designated May 1 of each year as “Loyalty Day.” On this day, let us reaffirm our allegiance to the United States of America, our Constitution, and our founding values.

NOW, THEREFORE, I, BARACK OBAMA, President of the United States of America, do hereby proclaim May 1, 2011, as Loyalty Day. This Loyalty Day, I call upon all the people of the United States to join in support of this national observance, whether by displaying the flag of the United States or pledging allegiance to the Republic for which it stands.

IN WITNESS WHEREOF, I have hereunto set my hand this twenty-ninth day of April, in the year of our Lord two thousand eleven, and of the Independence of the United States of America the two hundred and thirty-fifth.

[FR Doc. 2011-11069

Filed 5-4-11; 8:45 am]

Billing code 3195-W1-P